DEPARTMENT OF VETERANS AFFAIRS

38 CFR Part 21

Nonduplication; Pension, Compensation, and Dependency and Indemnity Compensation; Correction

AGENCY: Department of Veterans Affairs.

ACTION: Correcting amendment.

SUMMARY: This document corrects the Department of Veterans Affairs (VA) regulation that governs nonduplication of the payment of benefits to the child of a veteran. This correction is required in order to amend a cross reference in the regulation. No substantive change to the content of the regulations is being made by this correcting amendment.

DATES: Effective Date: June 8, 2010.

FOR FURTHER INFORMATION CONTACT: Tracy Wang, Office of Regulation Policy and Management (02REG), Department of Veterans Affairs, 810 Vermont Ave., NW., Washington, DC 20420, (202) 461-4936.

SUPPLEMENTARY INFORMATION: VA published a final rule in the Federal Register on September 30, 1997, at 62 FR 51274, amending 38 CFR 3.503, by redesignating paragraphs (a) through (j) as paragraphs (a)(1) through (a)(10), respectively. Therefore, § 3.503(h) became § 3.503(a)(8). However, VA neglected to amend the cross reference to § 3.503(h) in 38 CFR 21.3023 to reflect this change. This document corrects this error by removing “See § 3.503(h)” and adding the correct citation in its place, “See § 3.503(a)(8)”.

List of Subjects in 38 CFR Part 21

Administrative practice and procedure, Armed forces, Civil rights, Claims, Colleges and universities, Conflict of interests, Education, Employment, Grant programs—education, Grant programs—veterans, Health care, Loan programs—education, Loan programs—veterans, Manpower training programs, Reporting and recordkeeping requirements, Schools, Travel and transportation expenses, Veterans, Vocational education, Vocational rehabilitation.

William F. Russo,
Deputy Director, Regulation Policy and Management.

For the reasons set out in the preamble, VA is correcting 38 CFR Part 21 as follows:

PART 21—VOCATIONAL REHABILITATION AND EDUCATION

1. The authority citation for part 21, subpart C continues to read as follows:

Authority: 38 U.S.C. 501(a), 512, 3500-3566, and as noted in specific sections.

§ 21.3023 [Corrected]

2. In the cross reference to § 21.3023, remove “See § 3.503(h)” and add, in its place, “See § 3.503(a)(8)”.

[FR Doc. 2010-13615 Filed 6-7-10; 8:45 am]

BILLING CODE P